DEPARTMENT OF HEALTH AND HUMAN SERVICES

Food and Drug Administration

[Docket No. FDA-2018-D-3464]

Policy Regarding Quantitative Labeling of Dietary Supplements Containing Live Microbials; Draft Guidance for Industry; Availability; Correction

AGENCY: Food and Drug Administration, HHS.

ACTION: Notice of availability; correction.

SUMMARY: The Food and Drug Administration (FDA or we) is correcting a document that appeared in the Federal Register of September 7, 2018 (83 FR 45454). The document announced the draft guidance for industry entitled “Policy Regarding Quantitative Labeling of Dietary Supplements Containing Live Microbials.” The notice inadvertently contained the wrong docket number. This document corrects that error.

DATES: This notice is applicable October 5, 2018.

FOR FURTHER INFORMATION CONTACT: Steven Tave, Center for Food Safety and Applied Nutrition, Food and Drug Administration, 5001 Campus Dr., College Park, MD 20740, 240-402-2878.

SUPPLEMENTARY INFORMATION: In the Federal Register of Friday, September 7, 2018, appearing on page 45454 in FR. Doc. 2018-19367, the following corrections are made:

On page 45454, in the docket heading in column 1, the docket number appearing in square brackets is corrected to be FDA-2018-D-3464.

On page 45454, in the “Instructions,” in column 2, the Docket No. is corrected to be FDA-2018-D-3464.

Dated: October 1, 2018.
Leslie Kux,
Associate Commissioner for Policy.

[FR Doc. 2018-21677 Filed 10-4-18; 8:45 am]

BILLING CODE 4164-01-P